DEPARTMENT OF TRANSPORTATION

Office of the Secretary

Notice of Applications for Certificates of Public Convenience and Necessity and Foreign Air Carrier Permits Filed Under Subpart B (Formerly Subpart Q) During the Week Ending December 27, 2008

The following Applications for Certificates of Public Convenience and Necessity and Foreign Air Carrier Permits were filed under Subpart B (formerly Subpart Q) of the Department of Transportation's Procedural Regulations (See 14 CFR 301.201 et seq.

The due date for Answers, Conforming Applications, or Motions To Modify Scope are set forth below for each application. Following the Answer period, DOT may process the application by expedited procedures. Such procedures may consist of the adoption of a show-cause order, a tentative order, or in appropriate cases a final order without further proceedings.

Docket Number: DOT-OST-2008-0382.

Date Filed: December 23, 2008.

Due Date for Answers, Conforming Applications, or Motion To Modify Scope: January 13, 2009.

Description: Amendment No. 1 of Travel Service, a.s. to its application for an exemption and foreign air carrier permit requesting to include scheduled foreign air transportation of persons, property and mail between a point or points in the European Community and the Member States of the European Union, and a point or points in the United States, to the full extent allowed under the Air Transport Agreement between the United States and the European Community and the Member States of the European Union; and to register its trade name “Smart Wings,” and that it be made part of its exemption and foreign air carrier permit.

Docket Number: DOT-OST-2005-22228 and DOT-OST-2008-0392.

Date Filed: December 22, 2008.

Due Date for Answers, Conforming Applications, or Motion To Modify Scope: January 12, 2009.

Description: Application of Southwest Airlines Co. (“Southwest”) requesting a certificate of public convenience and necessity and exemption authority to authorize Southwest to engage in foreign scheduled air transportation of persons, property and mail between the United States and Canada. Southwest also requests that the Department designate it for such service.

Renee V. Wright,
Program Manager, Docket Operations Federal Register Liaison.

[FR Doc. E9-1061 Filed 1-16-09; 8:45 am]

BILLING CODE 4910-9X-P